DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground modified | Communities affected
Merrick County, Nebraska, and Incorporated Areas
Docket No.: FEMA-B-1010
Platte River | Approximately 0.50 mile downstream of Union Pacific Railroad | +1,685 | Unincorporated Areas of Merrick County.
| Approximately 0.68 miles upstream of State Highway 14 | +1,711
* National Geodetic Vertical Datum.
+ North American Vertical Datum.
# Depth in feet above ground.
ADDRESSES
Unincorporated Areas of Merrick County
Maps are available for inspection at 1510 18th Street, Central City, NE 68826.
Thurston County, Nebraska, and Incorporated Areas
Docket No.: FEMA-B1012
Logan Creek | Approximately 2.20 miles downstream of State Highway 94 | +1,318 | Unincorporated Areas of Thurston County, Omaha Indian Tribe.
| Approximately 1.65 miles upstream of State Highway 94 | +1,332
Middle Creek | Approximately 0.81 mile downstream of Avenue B | +1,405 | Unincorporated Areas of Thurston County, Village of Emerson, Winnebago Indian Tribe.
| Approximately 0.27 mile upstream of County Road 15 | +1,425
Unnamed Tributary to Logan Creek | Approximately 0.75 mile upstream of State Highway 9 | +1,333 | Unincorporated Areas of Thurston County, Omaha Indian Tribe.
| Approximately 0.30 mile upstream of State Highway 9 | +1,347
Unnamed Tributary to Middle Creek | Approximately 530 feet downstream of Lagan Street | +1,419 | Village of Emerson, Winnebago Indian Tribe.
| Approximately 750 feet upstream of 1st Street | +1,441
* National Geodetic Vertical Datum.
+ North American Vertical Datum.
# Depth in feet above ground.
ADDRESSES
Omaha Indian Tribe
Maps are available for inspection at 100 Main Street, Macy, NE 68039.
Unincorporated Areas of Thurston County
Maps are available for inspection at 106 South 5th Street, Pender, NE 68047.
Village of Emerson
Maps are available for inspection at 211 West Front Street, Emerson, NE 68733.
Winnebago Indian Tribe
Maps are available for inspection at 100 Buff Street, Winnebago, NE 68071.
Buncombe County, North Carolina and Incorporated Areas
Docket No.: FEMA-D-7826 and FEMA-B-7795
Avery Creek | Approximately 0.5 mile upstream of the confluence with the French Broad River | +2,051 | Unincorporated Areas of Buncombe County.
| Approximately 0.5 mile upstream of Misty Valley Parkway | +2,100
Beaverdam Creek (into French Broad River) Tributary 1 | Approximately 900 feet upstream of Hillcrest Road | +2,107 | Unincorporated Areas of Buncombe County, Town of Woodfin.
| Approximately 340 feet upstream of Baird Cove Road (State Road 2088) | +2,348
Beaverdam Creek (into South Hominy Creek) | At the confluence with South Hominy Creek | +2,107 | Unincorporated Areas of Buncombe County.
| Approximately 50 feet downstream of Wise Road (State Road 3467) | +2,270
Beaverdam Creek (into South Hominy Creek) Tributary | At the confluence with Beaverdam Creek (into South Hominy Creek) | +2,214 | Unincorporated Areas of Buncombe County.
| Approximately 0.6 mile upstream of the confluence with Beaverdam Creek (into South Hominy Creek) | +2,250
Bee Branch | At the confluence with Willow Creek | +2,281 | Unincorporated Areas of Buncombe County.
| Approximately 50 feet upstream of Bee Branch Road | +2,418
Beetree Creek | At the confluence with Swannanoa River | +2,148 | Unincorporated Areas of Buncombe County.
| Approximately 0.9 mile upstream of Bee Tree Road (State Road 2428) | +2,682
Bent Creek | Approximately 0.4 mile upstream of the confluence with French Broad River | +2,019 | Unincorporated Areas of Buncombe County.
| Approximately 0.6 mile upstream of Blue Ridge Parkway | +2,031
Bill Moore Creek | Approximately 900 feet upstream of the confluence with Hominy Creek | +2,069 | Unincorporated Areas of Buncombe County, City of Asheville.
| Approximately 110 feet upstream of Reeves Cove Road (State Road 3439) | +2,160
Broad River | The Buncombe/Henderson county boundary | +1,719 | Unincorporated Areas of Buncombe County.
| Approximately 0.3 mile upstream of NC Highway 9 | +2,592
Brush Creek | At the confluence with Cane Creek | +2,164 | Unincorporated Areas of Buncombe County.
| Approximately 220 feet upstream of Dotson Cove Road | +2,511
Bull Creek | At the confluence with Swannanoa River | +2,109 | Unincorporated Areas of Buncombe County.
| Approximately 1,260 feet upstream of the confluence with the Swannanoa River | +2,109
Camp Branch | At the confluence with Swannanoa River | +2,315 | Town of Black Mountain.
| Approximately 660 feet upstream of Camp Branch Road | +2,526
Cane Creek | Approximately 0.5 mile upstream of the confluence with the French Broad River | +2,061 | Unincorporated Areas of Buncombe County, City of Asheville.
| Approximately 1,510 feet upstream of the confluence with Garren Creek | +2,309
Cane Creek (into Hominy Creek) | Approximately 0.3 mile upstream of the confluence with Hominy Creek | +2,009 | City of Asheville.
| Approximately 1,490 feet upstream of Sand Hill Road | +2,011
Curtis Creek | At the confluence with South Hominy Creek | +2,244 | Unincorporated Areas of Buncombe County.
| Approximately 20 feet upstream of Curtis Creek Road (State Road 1113) | +2,383
Dick Branch | At the confluence with Flat Creek (into French Broad River) | +1,940 | Unincorporated Areas of Buncombe County.
| Approximately 240 feet upstream of Flat Creek Church Road (State Road 1764) | +1,962
Dillingham Creek | Just upstream of Dillingham Road (State Road 2173) | +2,273 | Unincorporated Areas of Buncombe County.
| Approximately 40 feet upstream of Dillingham Road (State Road 2173) | +2,545
Dingle Creek | Approximately 0.2 mile upstream of the confluence with French Broad River | +2,008 | Unincorporated Areas of Buncombe County, City of Asheville.
| Approximately 1,660 feet upstream of Ballantree Drive | +2,631
Dix Creek | At the confluence with Newfound Creek | +1,929 | Unincorporated Areas of Buncombe County.
| Approximately 900 feet upstream of Old Leicester Highway (State Road 1002) | +2,026
Eller Cove | At the confluence with Reems Creek | +2,078 | Town of Weaverville.
| Approximately 40 feet upstream of Eller Hollow Road (State Road 2104) | +2,172
Emma Branch | Approximately 300 feet upstream of the confluence with Smith Mill Creek | +1,977 | Unincorporated Areas of Buncombe County, City of Asheville.
| Approximately 0.7 mile upstream of Eliada Home Road | +2,299
Emma Branch Tributary 2 | At the confluence with Emma Branch | +2,069 | City of Asheville.
| Approximately 0.5 mile upstream of Brickyard Road | +2,309
Flat Creek | At the confluence with Broad River | +1,946 | Unincorporated Areas of Buncombe County.
| Approximately 1.1 miles upstream of the confluence with the Broad River | +2,066
Flat Creek (into French Broad River) | At NC Highway 251 | +1,770 | Unincorporated Areas of Buncombe County.
| Approximately 1,870 feet upstream of Chambers Road | +2,205
Flat Creek (into Swannanoa River) | At the confluence with Swannanoa River | +2,360 | Town of Black Mountain, Town of Montreat.
| Just downstream of Kentucky Road | +2,686
Flat Creek (into Swannanoa River) Tributary 1 | At the confluence with Flat Creek (into Swannanoa River) | +2,379 | Town of Black Mountain.
| Approximately 830 feet upstream of NC Highway 9 | +2,458
Fourmile Branch | Approximately 2,000 feet upstream of the confluence with French Broad River | +2,002 | Unincorporated Areas of Buncombe County, City of Asheville, Town of Biltmore Forest.
| Approximately 90 feet downstream of US Highway 25 | +2,193
French Broad River Tributary 149 | At the confluence with French Broad River | +2,046 | Unincorporated Areas of Buncombe County.
| Approximately 1,420 feet upstream of River Glen Drive | +2,192
Gap Creek | At the confluence with Cane Creek | +2,163 | Unincorporated Areas of Buncombe County.
| Approximately 210 feet upstream of Windsong Drive | +2,359
Garren Creek | At the confluence with Cane Creek | +2,294 | Unincorporated Areas of Buncombe County.
| Approximately 250 feet upstream of Bleeker Lane | +2,382
Gashes Creek | At the confluence with Swannanoa River | +2,023 | Unincorporated Areas of Buncombe County, City of Asheville.
| Approximately 1,680 feet upstream of US Highway 74 | +2,225
George Branch | At the confluence with Hominy Creek | +2,178 | Unincorporated Areas of Buncombe County.
| Approximately 400 feet upstream of Curtis Farm Road (State Road 1101) | +2,208
Gill Branch | Approximately 50 feet upstream of the confluence with Reems Creek | +1,966 | Town of Weaverville.
| Approximately 100 feet upstream of Weaver Boulevard (State Road 1725) | +2,111
Glady Fork | At the confluence with South Hominy Creek | +2,292 | Unincorporated Areas of Buncombe County.
| Approximately 1,360 feet upstream of Black Oak Cove Road (State Road 3464) | +2,362
Gouches Branch | Approximately 1,000 feet upstream of the confluence with Newfound Creek | +1,977 | Unincorporated Areas of Buncombe County.
| Approximately 480 feet upstream of Gouches Branch Road (State Road 1377) | +2,012
Grassy Branch | At the confluence with Swannanoa River | +2,057 | Unincorporated Areas of Buncombe County, City of Asheville.
| Approximately 0.4 mile upstream of Upper Grassy Branch Road (State Road 2400) | +2,229
Gregg Branch | Approximately 25 feet upstream of the confluence with Beetree Creek | +2,243 | Unincorporated Areas of Buncombe County.
| Approximately 1,080 feet upstream of Old Bee Tree Road (State Road 2418) | +2,304
Haw Creek | At the confluence with Swannanoa River | +2,010 | City of Asheville.
| Approximately 1,800 feet upstream of the confluence with the Swannanoa River | +2,013
Herron Cove Branch | Approximately 50 feet upstream of the confluence with Reems Creek | +2,032 | Town of Weaverville.
| Approximately 230 feet upstream of Fontana Drive | +2,086
Hogeye Branch | At the confluence with Sandy Mush Creek | +2,184 | Unincorporated Areas of Buncombe County.
| Approximately 0.6 mile upstream of Hogeye Road (State Road 1393) | +2,314
Hominy Creek | Just upstream of Morgan Cove Road (State Road 1141) | +2,178 | Unincorporated Areas of Buncombe County.
| Approximately 150 feet upstream of the Buncombe/Haywood County boundary | +2,252
Hominy Creek Tributary 21 | Approximately 100 feet upstream of the confluence with Hominy Creek | +2,099 | Unincorporated Areas of Buncombe County.
| Approximately 1,520 feet upstream of Lindsey Road (State Road 1128) | +2,107
Hominy Creek Tributary 25 | Approximately 75 feet upstream of the confluence with Hominy Creek | +2,152 | Unincorporated Areas of Buncombe County.
| Approximately 780 feet upstream of North Morgan Branch Road (State Road 1140) | +2,191
Ivy Creek | At the Buncombe/Madison County boundary | +1,908 | Unincorporated Areas of Buncombe County.
| Approximately 550 feet upstream of NC Highway 197 | +2,111
Killian Branch | Approximately 250 feet upstream of the confluence with Beaverdam Creek (into French Broad River) | +2,120 | City of Asheville.
| Approximately 1.0 mile upstream of Inglewood Road | +2,288
Lee Creek | Approximately 320 feet upstream of the confluence with French Broad River | +1,890 | Unincorporated Areas of Buncombe County.
| Approximately 0.5 mile upstream of Roberts Road (State Road 1314) | +2,362
Little Piney Branch | At the confluence with Flat Creek (into Swannanoa River) | +2,558 | Town of Montreat.
| Approximately 1,810 feet upstream of Harmony Road Extension | +3,351
Long Branch (into Beetree Creek) | At the confluence with Beetree Creek | +2,299 | Unincorporated Areas of Buncombe County.
| Approximately 0.5 mile upstream of Long Branch Road (State Road 2429) | +3,083
Long Branch (into Sandy Mush Creek) | At the confluence with Sandy Mush Creek | +2,397 | Unincorporated Areas of Buncombe County.
| Approximately 90 feet upstream of Boyd Cove Road (State Road 1398) | +2,530
Maney Branch | At the confluence with Reems Creek | +2,395 | Unincorporated Areas of Buncombe County.
| Approximately 220 feet upstream of Beech Spring Drive | +2,460
Martin Branch | At the confluence with Turkey Creek | +1,976 | Unincorporated Areas of Buncombe County.
| Approximately 1,250 feet upstream of Martin Branch Road (State Road 1610) | +2,018
Martin Creek | At the confluence with North Fork Ivy Creek | +2,378 | Unincorporated Areas of Buncombe County.
| Approximately 1,460 feet upstream of Martins Creek Road (State Road 2027) | +2,506
McKinnish Branch | At the confluence with Smith Mill Creek | +2,105 | Unincorporated Areas of Buncombe County, City of Asheville.
| Approximately 150 feet upstream of McKinnish Cove Road (State Road 1320) | +2,195
Moore Creek | Just upstream of Monte Vista Road (State Road 1224) | +2,202 | Unincorporated Areas of Buncombe County.
| Approximately 0.5 mile upstream of Holcombe Cove Road (State Road 1236) | +2,380
Morgan Branch (into Ivy Creek) | At the confluence with Ivy Creek | +2,059 | Unincorporated Areas of Buncombe County.
| Approximately 770 feet upstream of Arrowood Road (State Road 2155) | +2,072
Morgan Branch (into South Hominy Creek) | At the confluence with South Hominy Creek | +2,235 | Unincorporated Areas of Buncombe County.
| Approximately 830 feet upstream of Blackfoot Trail | +2,276
Newfound Creek | Approximately 75 feet upstream of the confluence with French Broad River | +1,876 | Unincorporated Areas of Buncombe County.
| Approximately 90 feet upstream of Newfound Road (State Road 1104) | +2,388
Newfound Creek Tributary 17 | At the confluence with Newfound Creek | +1,955 | Unincorporated Areas of Buncombe County.
| Approximately 330 feet upstream of Sunview Drive | +1,958
Newfound Creek Tributary 26 | Approximately 400 feet upstream of the confluence with Newfound Creek | +2,012 | Unincorporated Areas of Buncombe County.
| Approximately 620 feet upstream of Old Newfound Road (State Road 1378) | +2,023
North Fork Ivy Creek | Approximately 50 feet upstream of the confluence with Dillingham Creek and Ivy Creek | +2,186 | Unincorporated Areas of Buncombe County.
| Approximately 100 feet downstream of Burleson Branch Road (State Road 2079) | +2,533
North Fork Swannanoa River | At the confluence with Swannanoa River | +2,231 | Unincorporated Areas of Buncombe County, Town of Black Mountain.
| Approximately 3.0 miles upstream of North Fork Right Fork Road (State Road 2476) | +2,762
North Turkey Creek | At the confluence with South Turkey Creek and Turkey Creek | +2,027 | Unincorporated Areas of Buncombe County.
| Approximately 0.7 mile upstream of Bryant Lane | +2,234
Ox Creek | At the confluence with Reems Creek | +2,182 | Unincorporated Areas of Buncombe County.
| Approximately 30 feet upstream of Ox Creek Road (State Road 2109) | +2,420
Ox Creek Tributary 1 | At the confluence with Ox Creek | +2,382 | Unincorporated Areas of Buncombe County.
| Approximately 620 feet upstream of the confluence with Ox Creek | +2,402
Parker Branch | At the confluence with Newfound Creek | +1,939 | Unincorporated Areas of Buncombe County.
| Approximately 1,150 feet upstream of the confluence with Newfound Creek | +1,944
Pole Creek | Just upstream of Dogwood Road (State Road 1220) | +2,100 | Unincorporated Areas of Buncombe County, City of Asheville.
| Approximately 270 feet upstream of Milksick Cove Road (State Road 1215) | +2,301
Potato Branch | At the confluence with South Turkey Creek | +2,318 | Unincorporated Areas of Buncombe County.
| Approximately 940 feet upstream of the confluence with South Turkey Creek | +2,335
Poverty Branch | At the confluence with North Fork Ivy Creek | +2,210 | Unincorporated Areas of Buncombe County.
| Approximately 0.9 mile upstream of the confluence with North Fork Ivy Creek | +2,293
Puncheon Branch | At the confluence with Flat Creek (into Swannanoa River) | +2,617 | Town of Montreat.
| Approximately 1,350 feet upstream of Oklahoma Road | +3,296
Ragsdale Creek | Approximately 0.8 mile upstream of Sand Hill Road (State Road 3412) | +2,064 | Unincorporated Areas of Buncombe County, City of Asheville.
| Approximately 40 feet upstream of Willow Pond Lane | +2,397
Reed Creek | At Murdock Avenue | +2,087 | City of Asheville.
| Approximately 360 feet downstream of Grovewood Road | +2,219
Reed Creek Tributary 2 | Approximately 320 feet upstream of the confluence with Reed Creek | +2,010 | City of Asheville.
| Approximately 280 feet upstream of Broadway Street | +2,017
Reed Creek Tributary 6 | Approximately 225 feet upstream of the confluence with Reed Creek | +2,088 | City of Asheville.
| Approximately 140 feet upstream of Hillside Street | +2,141
Reems Creek | At NC Highway 251 | +1,799 | Unincorporated Areas of Buncombe County, Town of Weaverville.
| Approximately 90 feet downstream of Blackberry Inn Road (State Road 2115) | +2,526
Reeves Creek | At the confluence with Reems Creek | +2,262 | Unincorporated Areas of Buncombe County.
| Approximately 0.4 mile upstream of Lula Cove Road | +2,392
Robinson Creek | At the confluence with Cane Creek | +2,094 | Unincorporated Areas of Buncombe County.
| Approximately 170 feet upstream of Concord Road (State Road 3150) | +2,264
Rock Creek | At the confluence with Broad River | +2,089 | Unincorporated Areas of Buncombe County.
| Approximately 1,230 feet upstream of Press Owenby Drive | +2,582
Ross Creek | At the confluence with Swannanoa River | +2,004 | City of Asheville.
| Approximately 20 feet downstream of Vance Gap Road | +2,347
Round Hill Branch | Approximately 500 feet upstream of the confluence with Newfound Creek | +2,046 | Unincorporated Areas of Buncombe County.
| Approximately 860 feet upstream of Green Valley Road (State Road 1383) | +2,138
Sams Branch | At the confluence with South Hominy Creek | +2,375 | Unincorporated Areas of Buncombe County.
| Approximately 1,220 feet upstream of Falling Brook Drive | +2,549
Sandymush Creek | Approximately 400 feet upstream of the confluence with French Broad River | +1,728 | Unincorporated Areas of Buncombe County.
| Approximately 840 feet upstream of Garrett Cove Road (State Road 1392) | +2,635
Saw Branch | At the confluence with South Hominy Creek | +2,412 | Unincorporated Areas of Buncombe County.
| Approximately 1,350 feet upstream of the confluence with South Hominy Creek | +2,476
Sluder Branch | At the confluence with Newfound Creek | +1,964 | Unincorporated Areas of Buncombe County.
| Approximately 1,580 feet upstream of Branchview Drive | +2,002
Smith Mill Creek | Approximately 950 feet upstream of the confluence with French Broad River | +1,977 | Unincorporated Areas of Buncombe County, City of Asheville.
| Approximately 0.4 mile upstream of Johnston School Road (State Road 1319) | +2,201
South Hominy Creek | Approximately 220 feet upstream of the confluence with Hominy Creek | +2,102 | Unincorporated Areas of Buncombe County.
| Approximately 400 feet upstream of Davis Creek Road (State Road 1103) | +2,560
South Hominy Creek Tributary 2 | At the confluence with South Hominy Creek | +2,150 | Unincorporated Areas of Buncombe County.
| Approximately 40 feet upstream of Bailey Road (State Road 3452) | +2,181
South Turkey Creek | At the confluence with North Turkey Creek and Turkey Creek | +2,027 | Unincorporated Areas of Buncombe County.
| Approximately 10 feet downstream of South Turkey Creek Road (State Road 1384) | +2,346
Stanfield Branch | At the confluence with Dick Branch | +1,952 | Unincorporated Areas of Buncombe County.
| Approximately 50 feet upstream of the confluence of Stanfield Branch Tributary 2 | +2,083
Stanfield Branch Tributary 2 | At the confluence with Stanfield Branch | +2,081 | Unincorporated Areas of Buncombe County.
| Approximately 1,620 feet upstream of the confluence with Stanfield Branch | +2,127
Stony Fork | At the confluence with South Hominy Creek | +2,312 | Unincorporated Areas of Buncombe County.
| Approximately 50 feet upstream of NC Highway 151 | +2,613
Sugar Cove | At the confluence with Reems Creek | +2,299 | Unincorporated Areas of Buncombe County.
| Approximately 540 feet upstream of Sugar Cove Road (State Road 2114) | +2,435
Sugar Creek | At the confluence with Sandy Mush Creek | +2,162 | Unincorporated Areas of Buncombe County.
| Approximately 140 feet upstream of the confluence of Andys Branch | +2,247
Swannanoa River | Approximately 1,000 feet upstream of the confluence with French Broad River | +1,991 | Unincorporated Areas of Buncombe County, City of Asheville, Town of Biltmore Forest, Town of Black Mountain.
| Approximately 1,680 feet upstream of Dunsmore Avenue (State Road 2531) | +2,518
Swannanoa River Tributary 24 | At the confluence with Swannanoa River | +2,182 | Unincorporated Areas of Buncombe County.
| Approximately 0.8 mile upstream of Patton Hill Road | +2,403
Swannanoa River Tributary 26 | At the confluence with Swannanoa River | +2,198 | Unincorporated Areas of Buncombe County.
| Approximately 110 feet upstream of Druid Hill Road (State Road 2445) | +2,456
Swannanoa River Tributary 28 | At the confluence with Swannanoa River | +2,206 | Unincorporated Areas of Buncombe County.
| Approximately 0.8 mile upstream of the confluence of Swannanoa River Tributary of Tributary 28 | +2,447
Swannanoa River Tributary 33 | At the confluence with Swannanoa River | +2,242 | Unincorporated Areas of Buncombe County, Town of Black Mountain.
| Approximately 40 feet downstream of Wagon Trail | +2,331
Swannanoa River Tributary 35 | At the confluence with Swannanoa River | +2,365 | Town of Black Mountain.
| Approximately 710 feet upstream of Avena Road | +2,432
Swannanoa River Tributary of Tributary 26 | At the confluence with Swannanoa River Tributary 26 | +2,270 | Unincorporated Areas of Buncombe County.
| Approximately 110 feet upstream of Druid Hill Road (State Road 2445) | +2,387
Swannanoa River Tributary of Tributary 28 | At the confluence with Swannanoa River Tributary 28 | +2,273 | Unincorporated Areas of Buncombe County.
| Approximately 190 feet upstream of Woodland Drive (State Road 2460) | +2,642
Swannanoa River Tributary of Tributary 33 | At the confluence with Swannanoa River Tributary 33 | +2,285 | Unincorporated Areas of Buncombe County, Town of Black Mountain.
| Approximately 0.4 mile upstream of the confluence with Swannanoa River Tributary 33 | +2,329
Sweeten Creek | At the confluence with Swannanoa River | +1,997 | City of Asheville.
| Approximately 1,800 feet upstream of US Highway 25 | +2,299
Sweeten Creek Tributary 2 | At the confluence with Sweeten Creek | +2,010 | City of Asheville.
| Approximately 60 feet upstream of Shady Oak Drive | +2,069
Sweeten Creek Tributary 3 | At the confluence with Sweeten Creek | +2,018 | City of Asheville.
| Approximately 1,370 feet upstream of Forest Street | +2,206
Sweeten Creek Tributary 4 | At the confluence with Sweeten Creek | +2,078 | Unincorporated Areas of Buncombe County, City of Asheville.
| Approximately 1,150 feet upstream of West Chapel Road | +2,139
Taylor Creek | The Buncombe/Rutherford county boundary | +2,000 | Unincorporated Areas of Buncombe County.
| Approximately 1,000 feet upstream of the Buncombe/Rutherford county boundary | +2,034
Tomahawk Branch | At the confluence with Swannanoa River | +2,287 | Town of Black Mountain.
| Approximately 490 feet upstream of Hiawassee Avenue (State Road 2495) | +2,383
Town Branch Creek | At the confluence with Dillingham Creek | +2,436 | Unincorporated Areas of Buncombe County.
| Approximately 190 feet upstream of Martin Lane (State Road 2165) | +2,768
Trantham Creek | At the confluence with Cane Creek | +2,265 | Unincorporated Areas of Buncombe County.
| Approximately 960 feet upstream of Ivy Cove Road | +2,391
Trent Branch | Approximately 300 feet upstream of the confluence with Ragsdale Creek | +2,024 | City of Asheville.
| Approximately 0.5 mile upstream of I-40 | +2,064
Tributary to Camp Branch | At the confluence with Camp Branch | +2,345 | Unincorporated Areas of Buncombe County, Town of Black Mountain.
| Approximately 1,060 feet upstream of NC Highway 9 | +2,477
Tributary to Tributary to Camp Branch | At the confluence with Tributary to Camp Branch | +2,363 | Unincorporated Areas of Buncombe County, Town of Black Mountain.
| Approximately 590 feet upstream of Settings Boulevard | +2,517
Turkey Creek | At the confluence with Sandy Mush Creek | +1,772 | Unincorporated Areas of Buncombe County.
| At the confluence with North Turkey Creek and South Turkey Creek | +2,027
Warren Creek | At the confluence with South Hominy Creek | +2,304 | Unincorporated Areas of Buncombe County.
| Approximately 1,860 feet upstream of the confluence with South Hominy Creek | +2,336
Webb Branch | Approximately 900 feet upstream of the confluence with Hominy Creek | +2,142 | Unincorporated Areas of Buncombe County.
| Approximately 0.4 mile upstream of US Highway 25/19 | +2,203
Williams Branch | At the confluence with Dillingham Creek | +2,285 | Unincorporated Areas of Buncombe County.
| Approximately 1.3 miles upstream of Williams Branch Road (State Road 2174) | +3,133
Willow Creek | At the confluence with Sandy Mush Creek | +2,266 | Unincorporated Areas of Buncombe County.
| Approximately 80 feet upstream of Willow Cove Road (State Road 1395) | +2,544
* National Geodetic Vertical Datum.
+ North American Vertical Datum.
# Depth in feet above ground.
ADDRESSES
City of Asheville
Maps are available for inspection at City Hall, 70 Court Plaza, Asheville, NC 28801.
Town of Biltmore Forest
Maps are available for inspection at Biltmore Forest Town Hall, 355 Vanderbilt Road, Biltmore Forest, NC 28803.
Town of Black Mountain
Maps are available for inspection at Black Mountain Town Hall, 102 Montreat Road, Black Mountain, NC 28711.
Town of Montreat
Maps are available for inspection at Montreat Town Hall, 96 Rainbow Terrace, Montreat, NC 28757.
Town of Weaverville
Maps are available for inspection at Weaverville Town Hall, 30 South Main Street, Weaverville, NC 28787.
Town of Woodfin
Maps are available for inspection at Woodfin Town Hall, 90 Elk Mountain Road, Woodfin, NC 28804.
Unincorporated Areas of Buncombe County
Maps are available for inspection at Buncombe County Planning Department, 46 Valley Street, Asheville, NC 28801.

(Catalog of Federal Domestic Assistance No. 97.022, “Flood Insurance.”)

Deborah S. Ingram,
Acting Deputy Assistant Administrator for Mitigation, Mitigation Directorate, Department of Homeland Security, Federal Emergency Management Agency.

[FR Doc. E9-28317 Filed 11-24-09; 8:45 am]

BILLING CODE 9110-12-P